ENVIRONMENTAL PROTECTION AGENCY

40 CFR Parts 52 and 81

[EPA-R05-OAR-2021-0540; FRL-9201-01-R5]

Air Plan Approval; Wisconsin; Redesignation of the Rhinelander Sulfur Dioxide Nonattainment Area

AGENCY: Environmental Protection Agency (EPA).

ACTION: Proposed rule.

SUMMARY: The Environmental Protection Agency (EPA) is proposing to redesignate the Rhinelander nonattainment area, which consists of a portion of Oneida County (Crescent Township, Newbold Township, Pine Lake Township, Pelican Township, and the City of Rhinelander), to attainment for the 2010 primary, health-based 1-hour sulfur dioxide (SO2) National Ambient Air Quality Standard (NAAQS). EPA is also proposing to approve Wisconsin's maintenance plan for the Rhinelander SO2 nonattainment area. Wisconsin submitted the request for approval of the Rhinelander area's redesignation and maintenance plan on July 28, 2021. EPA proposed to approve Wisconsin's attainment plan for the Rhinelander area on July 22, 2021, and EPA will not finalize this action until the attainment plan is approved.

DATES: Comments must be received on or before December 17, 2021.

ADDRESSES: Submit your comments, identified by Docket ID No. EPA-R05-OAR-2021-0540 at http://www.regulations.gov, or via email to arra.sarah@epa.gov. For comments submitted at Regulations.gov, follow the online instructions for submitting comments. Once submitted, comments cannot be edited or removed from Regulations.gov. For either manner of submission, EPA may publish any comment received to its public docket. Do not submit electronically any information you consider to be Confidential Business Information (CBI) or other information whose disclosure is restricted by statute. Multimedia submissions (audio, video, etc.) must be accompanied by a written comment. The written comment is considered the official comment and should include discussion of all points you wish to make. EPA will generally not consider comments or comment contents located outside of the primary submission (i.e., on the web, cloud, or other file sharing system). For additional submission methods, please contact the person identified in the FOR FURTHER INFORMATION CONTACT section. For the full EPA public comment policy, information about CBI or multimedia submissions, and general guidance on making effective comments, please visit http://www2.epa.gov/dockets/commenting-epa-dockets.

FOR FURTHER INFORMATION CONTACT: Abigail Teener, Environmental Engineer, Attainment Planning and Maintenance Section, Air Programs Branch (AR-18J), Environmental Protection Agency, Region 5, 77 West Jackson Boulevard, Chicago, Illinois 60604, (312) 353-7314, teener.abigail@epa.gov. The EPA Region 5 office is open from 8:30 a.m. to 4:30 p.m., Monday through Friday, excluding Federal holidays and facility closures due to COVID-19.

SUPPLEMENTARY INFORMATION: This supplementary information section is arranged as follows:

I. Background and Redesignation Requirements

II. Determination of Attainment

III. Wisconsin's State Implementation Plan (SIP)

IV. Permanent and Enforceable Emission Reductions

V. Maintenance Plan

VI. Requirements for the Area Under Section 110 and Part D

VII. What action is EPA taking?

VIII. Statutory and Executive Order Reviews

I. Background and Redesignation Requirements

In 2010, EPA established a revised primary, health-based 1-hour SO2 NAAQS of 75 parts per billion (ppb) (75 FR 35520, June 22, 2010). On August 5, 2013, EPA designated the Rhinelander area as nonattainment for the 2010 SO2 NAAQS based on air quality monitoring data for calendar years 2009-2011 (78 FR 47191). The Rhinelander area is comprised of Crescent Township, Newbold Township, Pine Lake Township, Pelican Township, and the City of Rhinelander in Oneida County. Wisconsin submitted an attainment plan for the Rhinelander area on January 22, 2016, and supplemented it on July 18, 2016, and November 29, 2016. On March 23, 2021, EPA partially approved and partially disapproved Wisconsin's Rhinelander SO2 plan, as submitted and supplemented in 2016, for failure to comply with EPA's stack height regulations (86 FR 15418).¹ On March 29, 2021, Wisconsin submitted a permit containing a more stringent emission limit for Ahlstrom-Munksjö's Rhinelander facility (Ahlstrom-Munksjö) (formerly Expera Specialty Solutions LLC (Expera)), the main SO2 source in the area, and supplemental information in order to remedy the plan's deficiencies specified in EPA's March 23, 2021, rulemaking. The plan includes modeling to show that compliance with emission limits results in attainment of the standard and ongoing maintenance. EPA proposed to approve Wisconsin's revised plan for bringing the Rhinelander area into attainment on July 22, 2021 (86 FR 38643), and EPA will not finalize this action until the attainment plan is approved and effective. On July 28, 2021, Wisconsin submitted a request to redesignate the Rhinelander area to attainment.

¹ For more discussion on stack height, see EPA's November 25, 2020, proposed partial approval and partial disapproval (85 FR 75273).

Under Clean Air Act (CAA) section 107(d)(3)(E), there are five criteria which must be met before a nonattainment area may be redesignated to attainment:

1. EPA has determined that the relevant NAAQS has been attained in the area.

2. The applicable implementation plan has been fully approved by EPA under section 110(k).

3. EPA has determined that improvement in air quality is due to permanent and enforceable reductions in emissions resulting from the SIP, Federal regulations, and other permanent and enforceable reductions.

4. EPA has fully approved a maintenance plan, including a contingency plan, for the area under section 175A of the CAA.

5. The State has met all applicable requirements for the area under section 110 and part D.

II. Determination of Attainment

The first requirement for redesignation is to demonstrate that the NAAQS has been attained in the area. As stated in EPA's April 2014 “Guidance for 1-Hour SO2 Nonattainment Area SIP Submissions,” there are two components needed to support an attainment determination: A review of representative air quality monitoring data and a further analysis, generally requiring air quality modeling, to demonstrate that the entire area is attaining the applicable NAAQS, based on current actual emissions or the fully implemented control strategy. Wisconsin has addressed both components.

Under EPA regulations at 40 CFR 50.17, the SO2 NAAQS is met at an ambient air quality monitoring site when the three-year average of the annual 99th percentile of one-hour daily maximum concentrations is less than or equal to 75 ppb, as determined in accordance with appendix T of 40 CFR part 50 at all relevant monitoring sites in the subject area. Wisconsin operates one SO2 monitoring site in the Rhinelander area: Rhinelander Tower monitor (AQS ID 55-085-0996). The Rhinelander Tower monitor site is located at 434 High Street under the Rhinelander municipal water tower. EPA has reviewed the ambient air monitoring data from the Rhinelander Tower monitor, focusing on air quality data collected from 2012 through 2020. For each of these calendar years, the data are quality-assured, certified, and recorded in EPA's Air Quality System database.²

² The 2020 quarter 4 data did not meet the completeness criterion due to some invalidated data. However, when data from all 4 quarters of 2020 were evaluated together, the completeness criterion was met for the 2020 calendar year.

Tables 1 and 2 of this document show the 99th percentile results and three-year average design values, respectively, for the Rhinelander Tower monitor for 2012-2020. The Rhinelander Tower monitor design values are 69 ppb for 2016-2018, 36 ppb for 2017-2019, and 36 ppb for 2018-2020, which are all below the SO2 NAAQS. Therefore, EPA finds that Wisconsin has demonstrated that Rhinelander's SO2 monitor shows attainment.

Table 1—Wisconsin's Monitoring Data for the Rhinelander SO2 Nonattainment Area for 2012-2020—99th Percentile Values
[ppb]
Site ID | Location | 2012 | 2013 | 2014 | 2015 | 2016 | 2017 | 2018 | 2019 | 2020
55-085-0996 | Rhinelander Tower Monitor | 174 | 153 | 162 | 156 | 129 | 38 | 40 | 29 | 39

Table 2—Wisconsin's Monitoring Data for the Rhinelander SO2 Nonattainment Area for 2012-2019—Design Values
[ppb]
Site ID | Location | 2012-2014 | 2013-2015 | 2014-2016 | 2015-2017 | 2016-2018 | 2017-2019 | 2018-2020
55-085-0996 | Rhinelander Tower Monitor | 163 | 157 | 149 | 108 | 69 | 36 | 36

In addition to ambient air quality monitoring data, Wisconsin utilized an approach based on computer modeling, which relied on allowable emissions in Wisconsin's attainment plan to additionally characterize the attainment status of the SO2 NAAQS and to provide for maintaining SO2 emissions in the Rhinelander area below the SO2 NAAQS through 2032. EPA proposed to approve this modeling on July 22, 2021, as part of Wisconsin's attainment plan, and EPA will not finalize this action until Wisconsin's attainment plan is approved and effective.

Regarding the requirement for Wisconsin to demonstrate that the entire area is attaining the SO2 NAAQS, Wisconsin also referred to the dispersion modeling analysis which was submitted as part of its attainment plan for Rhinelander. This analysis demonstrated that revised SO2 emission limits for Ahlstrom-Munksjö would provide for attainment, as Ahlstrom-Munksjö accounts for over 94 percent of the modeled SO2 concentration in the Rhinelander area. Wisconsin has confirmed that Ahlstrom-Munksjö and the other facilities included in the modeling analysis are currently in full compliance with their emission limits. Beginning December 31, 2021, Ahlstrom-Munksjö will be subject to a more stringent emission limit, which will ensure that actual emissions are at or below the levels Wisconsin used in its modeling analysis. The modeling analysis was discussed in detail in the July 22, 2021, notice of proposed rulemaking for the Rhinelander SO2 attainment plan (86 FR 38643). In this action, EPA proposes to find that this modeling analysis and the monitored air quality data demonstrate that the Rhinelander area has attained the 2010 SO2 NAAQS.

III. Wisconsin's State Implementation Plan (SIP)

EPA's proposed approval of Wisconsin's attainment SIP for the Rhinelander area (86 FR 38643) included revised emission limits for Ahlstrom-Munksjö, which is the main SO2 source in the Rhinelander area. In that action, EPA proposed to find that Wisconsin had satisfied requirements for providing for attainment of the 1-hour SO2 NAAQS in the Rhinelander area. The proposed SO2 SIP regulations for Ahlstrom-Munksjö are contained in Air Pollution Control Construction Permit Revision 15-DMM-128-R1.³ EPA will not finalize this action until the approval of Wisconsin's SIP for the Rhinelander area is finalized. Wisconsin has shown that it maintains an active enforcement program to ensure ongoing compliance with these requirements.⁴ Wisconsin's new source review/prevention of significant deterioration program will address emissions from potential new sources in the area (79 FR 60064, October 6, 2014).

³ The portions of Air Pollution Control Construction Permit Revision 15-DMM-128-R1 that EPA proposed to incorporate into the Wisconsin SIP include the permit cover sheet, emissions limitations for Ahlstrom-Munksjö (Conditions A.3.a.(1)-(3)), compliance demonstration (Conditions A.3.b.(1)-(3)), reference test methods, recordkeeping and monitoring requirements (Conditions A.3.c.(1)-(5) and A.3.c.(7)-(9)), and the effective date (Condition YYY.1.a.(1)).

⁴ Wisconsin Department of Natural Resources (WDNR) maintains an enforcement program to ensure compliance with SIP requirements. The Bureau of Air Management houses an active statewide compliance and enforcement team that works in all geographic regions of the State. WDNR refers actions as necessary to the Wisconsin Department of Justice with the involvement of WDNR. Wis. Stats. 285.83 and Wis. Stats. 285.87 provide WDNR with the authority to enforce violations and assess penalties, to ensure that required measures are ultimately implemented.

IV. Permanent and Enforceable Emission Reductions

For an area to be redesignated, the State must be able to reasonably attribute the improvement in air quality to emission reductions that are permanent and enforceable. Wisconsin's 2016 attainment plan established SO2 emission limits for Ahlstrom-Munksjö boiler B26 through Administrative Order AM-15-01. In 2018, these emission limits, in combination with the retirement of four coal boilers and reduced coal sulfur content at Ahlstrom-Munksjö, resulted in an actual average decrease of 2.07 tons per day (tpd) of SO2 (25 percent) from 2011 actual emissions. As part of its 2021 revised attainment plan, Wisconsin submitted a more stringent SO2 limit for Ahlstrom-Munksjö. This limit and the associated requirements are contained in a title I construction permit revision (Air Pollution Control Construction Permit Revision 15-DMM-128-R1), which will render them federally enforceable after the permit compliance date of December 31, 2021. EPA included the revised limits in the proposed approval of Wisconsin's SIP on July 22, 2021 (86 FR 38643). A redesignation to attainment of the Rhinelander area would not be effective before December 31, 2021, when the permit is enforceable.

As shown in Table 2 of this document, the monitored design values in the Rhinelander area at the time of its nonattainment designation were above the NAAQS of 75 ppb. Subsequent monitoring data in the Rhinelander area indicate that the 99th percentile ambient SO2 levels dropped below the NAAQS after the imposition of enforceable limits at Ahlstrom-Munksjö. EPA proposes to find that the improvement in air quality in the Rhinelander area can be attributed to permanent and enforceable emission reductions at Ahlstrom-Munksjö.

V. Maintenance Plan

CAA section 175A sets forth the elements of a maintenance plan for areas seeking redesignation from nonattainment to attainment. Under section 175A, the plan must demonstrate continued attainment of the applicable NAAQS for at least ten years after the nonattainment area is redesignated to attainment. Eight years after the redesignation, the State must submit a revised maintenance plan demonstrating that attainment will continue to be maintained for the ten years following the initial ten-year period. To address the possibility of future NAAQS violations, the maintenance plan must contain contingency measures as EPA deems necessary to ensure prompt correction of any future one-hour violations.

Specifically, the maintenance plan should address five requirements: The attainment emissions inventory, maintenance demonstration, monitoring, verification of continued attainment, and a contingency plan. Wisconsin's July 28, 2021, redesignation request contains its maintenance plan, which Wisconsin has committed to review eight years after redesignation.

In its redesignation request, Wisconsin provided an emission inventory which addresses the 2011 base year actual emissions of 2,440 tons per year (tpy) for the Rhinelander area. Wisconsin chose 2018 as an attainment year in order to demonstrate actual emissions reductions that have occurred in an attaining year. Total actual SO2 emissions in the Rhinelander area for the attainment year were 1,289 tpy. As Ahlstrom-Munksjö boiler B26 was not operational for part of 2018, Wisconsin also included average daily emission values of 8.23 tpd in 2011 and 6.15 tpd in 2018. Wisconsin demonstrated a 25 percent reduction in actual average daily emissions, which is more than sufficient to attain the SO2 NAAQS in the Rhinelander area. Wisconsin's projected Rhinelander area emissions for the maintenance year of 2032 are 2,204 tpy, over 99 percent of which are projected from Ahlstrom-Munksjö. This quantity is 10 percent lower than actual emissions in 2011. The projected emissions for 2032 are lower than the SO2 potential-to-emit for Ahlstrom-Munksjö of 2,710 tpy, based on the revised limits in Air Pollution Control Construction Permit Revision 15-DMM-128-R1. The modeling analysis shows that the area will continue to attain based on the potential-to-emit in the revised permit and associated control requirements.

Wisconsin's maintenance demonstration consists of the nonattainment SIP air quality analysis showing that the emission reductions now in effect in the Rhinelander area will provide for attainment of the SO2 NAAQS. The permanent and enforceable SO2 emission reductions described above ensure that area emissions will be equal to or less than the emission levels that were evaluated in the air quality analysis, and Wisconsin's enforceable emission requirements will ensure that the Rhinelander area SO2 emission limits are met continuously.

For continuing verification, Wisconsin has committed to track the emissions and compliance status of the major facilities in the Rhinelander area so that future emissions will not exceed the allowable emissions-based attainment inventory. All major sources in Wisconsin are required to submit annual emissions data, which the State uses to update its emission inventories as required by the CAA.

The requirement to submit contingency measures in accordance with section 172(c)(9) of the CAA can be adequately addressed for SO2 by the operation of a comprehensive enforcement program, which can quickly identify and address sources that might be causing exceedances of the NAAQS. Wisconsin's enforcement program is active and capable of prompt action to remedy compliance issues. Wisconsin commits to study SO2 emission trends and identify areas of concern and potential additional measures and, if necessary, Wisconsin will consider additional control measures that can be implemented quickly. Wisconsin has the authority to expeditiously adopt, implement, and enforce any subsequent emissions control measures deemed necessary to correct any future SO2 violations. Wisconsin commits to adopting and implementing such corrective actions as necessary to address violations of the SO2 NAAQS. The public will have the opportunity to participate in the contingency measure implementation process. Based on the foregoing, EPA proposes to find that Wisconsin has addressed the contingency measure requirement. Further, EPA proposes to find that Wisconsin's maintenance plan adequately addresses the five basic components necessary to maintain the SO2 NAAQS in the Rhinelander nonattainment area.

VI. Requirements for the Area Under Section 110 and Part D

Wisconsin has submitted information demonstrating that it meets all of the SIP requirements of the CAA for the Rhinelander nonattainment area. EPA approved most elements of Wisconsin's infrastructure SIP on September 11, 2015 (80 FR 54725), revisions to Prevention of Significant Deterioration and Nonattainment New Source Review programs on October 6, 2014 (79 FR 60064), state board requirements on January 21, 2016 (81 FR 3334), and the remaining components on February 7, 2017 (82 FR 9515). These infrastructure SIP approvals confirm that Wisconsin's SIP meets the applicable requirements of CAA section 110(a)(1) and 110(a)(2) to contain the basic program elements, such as an active enforcement program and permitting program.

Section 110(a)(2)(D) requires that SIPs contain certain measures to prevent sources in a State from significantly contributing to air quality problems in another State. To implement this provision, EPA has required certain States to establish programs to address the interstate transport of air pollutants. The section 110(a)(2)(D) requirements for a State are not linked with a nonattainment area's designation and classification in that State. EPA believes that the requirements linked with a nonattainment area's designation and classifications are the relevant measures to evaluate in reviewing a redesignation request. The transport SIP submittal requirements, where applicable, continue to apply to a State regardless of the designation of any one area in the State. Thus, EPA does not believe that the CAA's interstate transport requirements should be construed to be applicable requirements for purposes of redesignation.

In addition, EPA believes that other section 110 elements that are neither connected with nonattainment plan submissions nor linked with an area's SO2 attainment status are not applicable requirements for purposes of redesignation. The area will still be subject to these requirements after the area is redesignated to attainment of the 2010 SO2 NAAQS. The section 110 and part D requirements that are linked with a particular area's designation and classification are the relevant measures to evaluate in reviewing a redesignation request. This approach is consistent with EPA's existing policy on applicability (i.e., for redesignations) of conformity and oxygenated fuels requirements.⁵

⁵ See Reading, Pennsylvania proposed and final rulemakings, 61 FR 53174-53176 (October 10, 1996) and 62 FR 24826 (May 7, 1997); Cleveland-Akron-Loraine, Ohio final rulemaking, 61 FR 20458 (May 7, 1996); and Tampa, Florida final rule, 60 FR 62748 (December 7, 1995). See also the discussion of this issue in the Cincinnati, Ohio ozone redesignation (65 FR 37890, June 19, 2000), and the Pittsburgh, Pennsylvania ozone redesignation (66 FR 50399, October 19, 2001).

Section 191 of the CAA requires Wisconsin to submit a part D SIP for the Rhinelander nonattainment area by April 6, 2015. Wisconsin submitted its part D SIP on January 22, 2016 and supplemented it on July 18, 2016 and November 29, 2016. However, on March 23, 2021, EPA partially disapproved Wisconsin's part D SIP, as submitted and supplemented in 2016, for failure to comply with EPA's stack height regulations. Consequently, Wisconsin submitted a revised plan to EPA on March 29, 2021. The revised SIP included a demonstration of attainment and a more stringent SO2 emission limit for Ahlstrom-Munksjö. EPA proposed to approve the revised Rhinelander attainment plan on July 22, 2021 (86 FR 38643), and EPA will not finalize this action until the attainment plan is approved and effective. In the July 22, 2021, rulemaking, EPA proposed to conclude that Wisconsin had satisfied the various requirements under CAA section 110 and part D for the Rhinelander SO2 nonattainment area. EPA concluded that Wisconsin satisfied requirements for reasonably available control measures (required under section 173(c)(1)) and reasonable further progress (required under section 173(c)(2)). That rulemaking supplemented a previous action in which EPA concluded that Wisconsin satisfied requirements for an attainment inventory of the SO2 emissions from sources in the nonattainment area (required under section 173(c)(3)).

Wisconsin chose 2011 for its base year emissions inventory, as comprehensive emissions data were available and updated that year, which satisfies the 172(c)(3) requirements. In that year, Ahlstrom-Munksjö was the main source in the nonattainment area.

Table 3 of this document compares Wisconsin's SO2 emissions data for Ahlstrom-Munksjö for 2011 (the base nonattainment year identified by Wisconsin), 2018 (the attainment year identified by Wisconsin), and 2032 (the maintenance year identified by Wisconsin). For each of these years, Wisconsin's submittal shows that Ahlstrom-Munksjö accounts for over 99 percent of the SO2 emissions in the Rhinelander area.

By providing actual emissions from Ahlstrom-Munksjö, the main SO2 source, from a time period when the area was not meeting the SO2 NAAQS, and from a time period when the area was attaining the NAAQS, Wisconsin demonstrates a 25 percent reduction in actual average daily SO2 emissions. Wisconsin's submittal shows that actual average daily 2018 Ahlstrom-Munksjö SO2 emissions were 75 percent of the actual emissions in 2011. Wisconsin also shows by modeling that Ahlstrom-Munksjö's compliance with its revised SO2 emission limit, which will be federally enforceable beginning December 31, 2021, will result in the area maintaining attainment of the SO2 NAAQS.

Table 3—Actual and Projected Ahlstrom-Munksjö Emissions
Affected source | Type of reduction | 2011 Nonattainment year (actual): (tpy) | 2011 Nonattainment year (actual): (tpd) | 2018 Attainment year (actual): (tpy) | 2018 Attainment year (actual): (tpd) | 2011-2018 Change (actual): (tpy) | 2011-2018 Change (actual): (tpd) | 2032 Maintenance year (projected): (tpy) | 2032 Maintenance year (projected): (tpd)
Ahlstrom-Munksjö | Emission limits, unit shutdowns, fuel changes | 2,422 | 8.17 | * 1,280 | 6.13 | −1,142 | −2.04 | 2,195 | 6.13
* Annual emissions for 2018 are lower than the projected annual maintenance year emissions because Ahlstrom-Munksjö boiler B26 was not operational from mid-May to mid-October 2018

Section 176(c) of the CAA requires states to establish criteria and procedures to ensure that federally supported or funded projects conform to the air quality planning goals in the applicable SIP. The requirement to determine conformity applies to transportation plans, programs, and projects that are developed, funded, or approved under title 23 of the United States Code (U.S.C.) and the Federal Transit Act (transportation conformity) as well as to all other federally supported or funded projects (general conformity). State transportation conformity SIP revisions must be consistent with Federal conformity regulations relating to consultation, enforcement, and enforceability that EPA promulgated pursuant to its authority under the CAA. Based on EPA's 2014 SO2 guidance, transportation conformity only applies to SO2 SIPs if transportation-related emissions of SO2 as a precursor are a significant contributor to a PM2.5 nonattainment problem, or if the SIP has established an approved or adequate budget for such emissions as part of the RFP, attainment or maintenance strategy, neither of which apply to the Rhinelander area. Nevertheless, EPA approved Wisconsin's transportation conformity procedures on February 27, 2014 (79 FR 10995). EPA approved Wisconsin's general conformity procedures on July 29, 1996 (61 FR 39329).

Based on the above, EPA is proposing to find that Wisconsin has satisfied the applicable requirements for the redesignation of the Rhinelander nonattainment area under section 110 and part D of title I of the CAA.

VII. What action is EPA taking?

In accordance with Wisconsin's July 28, 2021, request, EPA is proposing to redesignate the Rhinelander nonattainment area from nonattainment to attainment of the 2010 SO2 NAAQS. The redesignation will not be effective until EPA approves the Wisconsin attainment plan for the Rhinelander area. EPA finds that Wisconsin has demonstrated that the area is attaining the 2010 SO2 NAAQS and that the improvement in air quality is due to permanent and enforceable SO2 emission reductions in the area. EPA is also proposing to approve Wisconsin's maintenance plan, which is designed to ensure that the area will continue to maintain the SO2 NAAQS.

VIII. Statutory and Executive Order Reviews

Under the CAA, redesignation of an area to attainment and the accompanying approval of a maintenance plan under section 107(d)(3)(E) are actions that affect the status of a geographical area and do not impose any additional regulatory requirements on sources beyond those imposed by state law. A redesignation to attainment does not in and of itself create any new requirements, but rather results in the applicability of requirements contained in the CAA for areas that have been redesignated to attainment. Moreover, the Administrator is required to approve a SIP submission that complies with the provisions of the CAA and applicable Federal regulations. 42 U.S.C. 7410(k); 40 CFR 52.02(a). Thus, in reviewing SIP submissions, EPA's role is to approve state choices, provided that they meet the criteria of the CAA. Accordingly, this action merely approves state law as meeting Federal requirements and does not impose additional requirements beyond those imposed by state law. For that reason, this action:

• Is not a significant regulatory action subject to review by the Office of Management and Budget under Executive Orders 12866 (58 FR 51735, October 4, 1993) and 13563 (76 FR 3821, January 21, 2011);

• Does not impose an information collection burden under the provisions of the Paperwork Reduction Act (44 U.S.C. 3501 et seq.);

• Is certified as not having a significant economic impact on a substantial number of small entities under the Regulatory Flexibility Act (5 U.S.C. 601 et seq.);

• Does not contain any unfunded mandate or significantly or uniquely affect small governments, as described in the Unfunded Mandates Reform Act of 1995 (Pub. L. 104-4);

• Does not have federalism implications as specified in Executive Order 13132 (64 FR 43255, August 10, 1999);

• Is not an economically significant regulatory action based on health or safety risks subject to Executive Order 13045 (62 FR 19885, April 23, 1997);

• Is not a significant regulatory action subject to Executive Order 13211 (66 FR 28355, May 22, 2001);

• Is not subject to requirements of Section 12(d) of the National Technology Transfer and Advancement Act of 1995 (15 U.S.C. 272 note) because application of those requirements would be inconsistent with the CAA; and

• Does not provide EPA with the discretionary authority to address, as appropriate, disproportionate human health or environmental effects, using practicable and legally permissible methods, under Executive Order 12898 (59 FR 7629, February 16, 1994).

In addition, the SIP is not approved to apply on any Indian reservation land or in any other area where EPA or an Indian tribe has demonstrated that a tribe has jurisdiction. In those areas of Indian country, the rule does not have tribal implications and will not impose substantial direct costs on tribal governments or preempt tribal law as specified by Executive Order 13175 (65 FR 67249, November 9, 2000), because redesignation is an action that affects the status of a geographical area and does not impose any new regulatory requirements on tribes, impact any existing sources of air pollution on tribal lands, nor impair the maintenance of SO2 national ambient air quality standards on tribal lands.

List of Subjects

40 CFR Part 52

Environmental protection, Air pollution control, Incorporation by reference, Intergovernmental relations, Reporting and recordkeeping requirements, Sulfur oxides.

40 CFR Part 81

Environmental protection, Air pollution control, National parks, Wilderness areas.

Dated: November 8, 2021.
Cheryl Newton,
Deputy Regional Administrator, Region 5.

[FR Doc. 2021-24915 Filed 11-16-21; 8:45 am]

BILLING CODE 6560-50-P